ENVIRONMENTAL PROTECTION AGENCY

40 CFR Part 300

[FRL-7007-4]

National Oil and Hazardous Substances Pollution Contingency Plan; National Priorities List

AGENCY: Environmental Protection Agency.

ACTION: Notice of deletion of the Warwick Landfill Superfund site from the National Priorities List.

SUMMARY: The Environmental Protection Agency (EPA) announces the deletion of the Warwick Landfill Superfund site (Site), located in the Town of Warwick, Orange County, New York, from the National Priorities List (NPL). The NPL constitutes appendix B of the National Oil and Hazardous Substances Pollution Contingency Plan (NCP), 40 CFR part 300, which EPA promulgated pursuant to section 105 of the Comprehensive Environmental Response, Compensation, and Liability Act of 1980 (CERCLA), as amended. EPA and the State of New York have determined that all appropriate response actions pursuant to CERCLA have been implemented; and, aside from monitoring, operation and maintenance, no further response actions pursuant to CERCLA are appropriate.

EFFECTIVE DATE: July 6, 2001.

FOR FURTHER INFORMATION CONTACT: Damian J. Duda, Remedial Project Manager, Emergency and Remedial Response Division, U.S. Environmental Protection Agency, Region II, 290 Broadway, 20th Floor, New York, New York 10007-1866, (212) 637-4269.

SUPPLEMENTARY INFORMATION: The site to be deleted from the NPL is the Warwick Landfill Superfund site, Town of Warwick, Orange County, New York.

A Notice of Proposed Deletion and a Notice of Direct Final Deletion for the Site were published on August 15, 2000 (65 FR 49776-49777 and 65 FR 49739-49741, respectively). In these notices, EPA requested public comment on the proposed NPL deletion of the Site until September 15, 2000. During the 30-day comment period, EPA received correspondence offering critical comments. As a result of the critical comments, EPA published a Notice of Withdrawal of Direct Final Deletion of the Site on October 16, 2000 (65 FR 61112). EPA evaluated the comments received and prepared a Responsiveness Summary and has concluded after a review of the comments that the Site does not pose a significant threat to public health or the environment. Copies of the Responsiveness Summary are available at the following repositories: Warwick Town Hall, 132 Kings Highway, Warwick, New York 10990, (914) 986-1120 and the Greenwood Lake Village Hall, Church Street, Greenwood Lake, New York 10925, (914) 477-9215. The Responsiveness Summary is also available in the Administrative Record File, located in the EPA Regional Office.

EPA identifies sites that appear to present a significant risk to public health or the environment, and it maintains the NPL as the active list of these sites. As described in 40 CFR 300.425(e)(3) of the NCP, any site deleted from the NPL remains eligible for remedial action in the unlikely event that conditions at a site warrant such action. Deletion of a site from the NPL does not affect the liability of potentially responsible parties nor does it impede Agency efforts to recover costs associated with response efforts.

List of Subjects in 40 CFR Part 300

Environmental protection, Chemicals, Hazardous substances, Hazardous waste, Intergovernmental relations, Penalties, Superfund, Water pollution control, Water supply.

Dated: June 14, 2001.
William J. Muszynski,
Acting Regional Administrator, Region II.

Part 300, title 40 of Chapter I of the Code of Federal Regulations is amended as follows:

PART 300—[AMENDED]

1. The authority citation for part 300 continues to read as follows:

Authority: 33 U.S.C. 1321(c)(2); 42 U.S.C. 9601-9657; E.O. 12777, 56 FR 54757, 3 CFR 1991 Comp., p. 351; E.O. 12580, 52 FR 2923, 3 CFR, 1987 Comp., p. 193.

Appendix B—[Amended]

2. Table 1 of appendix B to part 300 is amended by removing the site for “Warwick Landfill, Warwick, New York.”

[FR Doc. 01-16809 Filed 7-5-01; 8:45 am]

BILLING CODE 6560-50-U